DEPARTMENT OF TRANSPORTATION

Federal Aviation Administration

Twenty-Sixth Meeting: RTCA Special Committee 217 (SC-217) Aeronautical Databases (Joint With EUROCAE WG-44 Aeronautical Databases)

AGENCY: Federal Aviation Administration (FAA), U.S. Department of Transportation (DOT).

ACTION: Notice of Twenty-Sixth RTCA Special Committee 217 meeting.

SUMMARY: The FAA is issuing this notice to advise the public of the Twenty-Sixth RTCA Special Committee 217 meeting.

DATES: The meeting will be held July 18-22, 2016 from 9:00 a.m.-5:00 p.m.

ADDRESSES: The meeting will be held at Boeing, 7501 12th Ave S., Seattle, WA 98108.

FOR FURTHER INFORMATION CONTACT: The RTCA Secretariat, 1150 18th Street NW., Suite 910, Washington, DC, 20036, or by telephone at (202) 833-9339, fax at (202) 833-9434, or Web site at http://www.rtca.org or Jennifer Iversen, Program Director, RTCA, Inc., jiversen@rtca.org, (202) 330-0662; Anna Von Groote, EUROCAE Technical Programme Manager, anna.vongroote@eurocae.net, +33 1 40 92 79 26; Brian Gilbert, brian.d.gilbert@boeing.com, (425) 237-7720; or Stephane Dubet, Stephane.Dubet@aviation-civile.gouv.fr, +33 5 57 92 57 81.

SUPPLEMENTARY INFORMATION: Pursuant to section 10(a)(2) of the Federal Advisory Committee Act (Pub. L. 92-463, 5 U.S.C., App.), notice is hereby given for a meeting of RTCA Special Committee 217. The agenda will include the following:

Monday, July 18, 2016 (9:00 a.m.-12:00 p.m.) Opening Plenary Session

1. Co-Chairmen's remarks and introductions

2. Housekeeping

3. Approve minutes from 25th meeting

4. Review and approve meeting agenda for 26th meeting

5. Action item list review

6. Review of the ISRA with SC206

7. Document update process—method for proposing changes

8. Presentations (TBD)

Monday-Thursday, July 18-21, 2016 (12:00 p.m.-5:00 p.m.) Working Group Sessions

1. Sub-team report-outs

a. Document structure

b. Background/PBN principles

c. Data preparation rules

d. Data quality

e. Procedure encoding

f. Aeronautical information basics

2. Status of EASA PBN IR

3. Presentation: Typical issues with State data or procedures <expected based on action item>

4. RNP Data Block proposal <expected based on action item>

5. Application appendix input review <expected based on action items 25-07 and 25-10 through 25-17>

6. Draft of requirements tables based on data catalog <expected based on action item>

7. Review inputs for action items 25-18 through 25-23

8. New proposals

Friday, July 22, 2016 (9:00 a.m.-1:00 p.m.) Closing Plenary Session

1. Meeting wrap-up: Main conclusions and way forward

2. Review of action items

3. Next meetings

4. Any other business

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on May 19, 2016.
Latasha Robinson,
Management & Program Analyst, NextGen, Enterprise Support Services Division, Federal Aviation Administration.

[FR Doc. 2016-12215 Filed 5-23-16; 8:45 am]

BILLING CODE 4910-13-P